DEPARTMENT OF DEFENSE

Department of the Air Force

[Docket ID: USAF-2024-HQ-0009]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 19, 2024.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the AF Information Collections Office, 1800 Air Force Pentagon, Suite 4C146, Washington, DC 20330, ATTN: Ms. Carlinda Lotson Miller, or call 703-697-4593.

SUPPLEMENTARY INFORMATION:

Title; Associated Form; and OMB Number: Department of Defense National Defense Science and Engineering Graduate (NDSEG) Fellowships Program; OMB Control Number 0701-0154.

Needs and Uses: The National Defense Science and Engineering (S&E) Graduate (NDSEG) Fellowships program provides 3-year fellowships to students enrolled in Ph.D. programs of interest to DoD. Awards are under the authority of 10 U.S.C. 2191. The request for applications is necessary to screen applicants and to evaluate and select students to award fellowships.

Information is used by the American Society for Engineering Education (ASEE), the contractor selected to administer the program, to down-select the eligible applicants by means of a peer review panel. The information is also used by scientists of the Air Force, Army, and Navy, to make the final selection of awardees.

Affected Public: Individuals or households.

Annual Burden Hours: 42,924.

Number of Respondents: 3,577.

Responses per Respondent: 1.

Annual Responses: 3,577.

Average Burden per Response: 12 hours.

Frequency: On occasion.

Dated: September 17, 2024.
Aaron T. Siegel,
Alternate OSD Federal Register Liaison Officer, Department of Defense.

[FR Doc. 2024-21610 Filed 9-19-24; 8:45 am]

BILLING CODE 6001-FR-P